CONSUMER FINANCIAL PROTECTION BUREAU

[Docket No. CFPB-2023-0020]

Request for Information Regarding Data Brokers and Other Business Practices Involving the Collection and Sale of Consumer Information

AGENCY: Consumer Financial Protection Bureau.

ACTION: Request for information; extension of comment period.

SUMMARY: On March 15, 2023, the Consumer Financial Protection Bureau (Bureau or CFPB) issued a request for information seeking input from the public related to data brokers. The request for information was published in the Federal Register on March 21, 2023, and provided for a comment period that was set to expire on June 13, 2023. To allow interested persons more time to gather the requested information and submit comments, the CFPB has determined that an extension of the comment period until July 15, 2023, is appropriate.

DATES: The end of the comment period for the Request for Information Regarding Data Brokers published on March 21, 2023 (88 FR 16951), is extended from June 13, 2023, until July 15, 2023.

ADDRESSES: You may submit comments, identified by Docket No. CFPB-2023-0020, by any of the following methods:

• Federal eRulemaking Portal: https://www.regulations.gov. Follow the instructions for submitting comments.

• Email: DataBrokersRFI_2023@cfpb.gov. Include Docket No. CFPB-2023-0020 in the subject line of the message.

• Mail/Hand Delivery/Courier: Comment Intake—Request for Information Regarding Data Brokers, Consumer Financial Protection Bureau, 1700 G Street, NW, Washington, DC 20552. Because paper mail in the Washington, DC area and at the CFPB is subject to delay, commenters are encouraged to submit comments electronically.

Instructions: The CFPB encourages the early submission of comments. All submissions should include the agency name and docket number for this request for information. Please note the number of the topic on which you are commenting at the top of each response (you do not need to address all topics.) In general, all comments received will be posted without change to https://www.regulations.gov. All comments, including attachments and other supporting materials, will become part of the public record and subject to public disclosure. Sensitive personal information, such as account numbers or Social Security numbers, should not be included. Comments generally will not be edited to remove any identifying or contact information.

FOR FURTHER INFORMATION CONTACT: Erie Meyer, Chief Technologist and Senior Advisor, Office of the Director; Davida Farrar, Counsel, Office of Consumer Populations, at 202-435-7700. If you require this document in an alternative electronic format, please contact CFPB_Accessibility@cfpb.gov.

SUPPLEMENTARY INFORMATION: On March 15, 2023, the Bureau issued a request for information seeking information from the public on the data broker industry. Data brokers is an umbrella term to describe firms that collect, aggregate, sell, resell, license, or otherwise share consumers' personal information with other parties. Data brokers encompass actors such as first-party data brokers that interact with consumers directly, as well as third-party data brokers with whom the consumer does not have a direct relationship. Data brokers include firms that specialize in preparing employment background screening reports and credit reports. Data brokers collect information from public and private sources for purposes including marketing and advertising, building and refining proprietary algorithms, credit and insurance underwriting, consumer-authorized data porting, fraud detection, criminal background checks, identity verification, and people search databases.

This request for information seeks comments from the public on data brokers. The submissions in response to this request for information will serve to assist the CFPB and policymakers in understanding the current state of business practices in exercising enforcement, supervision, regulatory, and other authorities. The CFPB welcomes stakeholders to submit data, analysis, research, and other information about data brokers. The CFPB also requests input from individuals who have interacted with or have been affected by data broker business practices.

The Bureau has determined that it is appropriate to extend until July 15, 2023, the comment period on this request for information. This extension will allow interested persons more time to pull together the requested information for submission. The comment period will now close on July 15, 2023.

Paul Hannah,
Senior Counsel, Consumer Financial Protection Bureau.

[FR Doc. 2023-12550 Filed 6-12-23; 8:45 am]

BILLING CODE 4810-AM-P